FEDERAL COMMUNICATIONS COMMISSION

[Report No. 2869]

Petitions for Reconsideration and Clarification of Action in Rulemaking Proceeding

June 25, 2008.

Petitions for Reconsideration have been filed in the Commission's Rulemaking proceeding listed in this Public Notice and published pursuant to 47 CFR Section 1.429(e). The full text of these documents is available for viewing and copying in Room CY-B402, 445 12th Street, SW., Washington, DC or may be purchased from the Commission's copy contractor, Best Copy and Printing, Inc. (BCPI) (1-800-378-3160). Oppositions to these petitions must be filed by July 29, 2008. See Section 1.4(b)(1) of the Commission's rules (47 CFR 1.4(b)(1). Replies to oppositions must be filed within 10 days after the time for filing oppositions have expired.

Subject: In the Matter of Amendment of the Establishment of Policies and Service Rules for the Broadcasting-Satellite Service at the 17.3-17.7 GHz Frequency Band and at the 17.7-17.8 GHz Frequency Band Internationally, and at the 24.75-25.25 GHz Frequency Band for Fixed Satellite Services Providing Feeder Links to the Broadcasting-Satellite Service and for the Satellite Services Operating Bi-directionally in the 17.3-17.8 GHz Frequency Band (IB Docket No. 06-123).

cc: On March 13, 2008, DIRECTV, Inc. filed a partial withdrawal of Petition for Reconsideration, IB Docket No. 06-123. DIRECTV no longer seeks reconsideration with respect to the amendment of footnote US402, and accordingly withdraws that portion of its petition.

Number of Petitions Filed: 2

Subject: In the Matter of Promoting Diversification of Ownership in the Broadcasting Services (MB Docket No. 07-294).

2006 Quadrennial Regulatory Review—Review of the Commission's Broadcast Ownership Rules and Other Rules Adopted Pursuant to Section 202 of the Telecommunications Act of 1996 (MB Docket No. 06-121).

2002 Biennial Regulatory Review—Review of the Commission's Broadcast Ownership Rules and Other Rules Adopted Pursuant to Section 202 of the Telecommunications Act 1996 (MB Docket No. 02-277).

Cross-Ownership of Broadcast Stations and Newspapers (MM Docket No. 01-235).

Rules and Policies Concerning Multiple Ownership of Radio Broadcast Stations in Local Markets (MM Docket No. 01-317).

Definition of Radio Markets (MM Docket No. 00-244).

Ways to Further Section 257 Mandate and to Build on Earlier Studies (MB Docket No. 04-228).

Number of Petitions Filed: 2

Subject: In the Matter of Amendment of Parts 1, 21, 73, 74 and 101 of the Commission's Rules to Facilitate the Provision of Fixed and Mobile Broadband Access, Educational and Other Advanced Services in the 2150-2162 and 2500-2690 MHz Bands (WT Docket No. 03-66)

Number of Petitions Filed: 2

Marlene H. Dortch,
Secretary.

[FR Doc. E8-15840 Filed 7-11-08; 8:45 am]

BILLING CODE 6712-01-P